DEPARTMENT OF AGRICULTURE

Forest Service

Caribou-Targhee National Forest, Idaho; Big Bend Ridge Vegetation Management Project and Timber Sale Supplement Environmental Impact Statement and Proposed Targhee Revised Forest Plan Amendment

AGENCY: Forest Service, USDA.

ACTION: Notice of intent to prepare a supplemental environmental impact statement.

SUMMARY: The Caribou-Targhee National Forest proposes to supplement the Big Bend Ridge Vegetation Management Project and Timber Sale analysis and to consider amending the Targhee Revised Forest Plan with regard to old growth and aspen. The supplement will provide additional analysis and disclosure of environmental effects.

DATES: Comments concerning the scope of the analysis must be received within 45 days from the date of this publication. The draft supplemental environmental impact statement is expected in September 2007. The comment period on the draft supplemental environmental impact statement will be 45 days from the date the Environmental Protection Agency publishes the notice of availability in the Federal Register. The final supplemental environmental impact statement is expected in early 2008.

ADDRESSES: Send written comments to Robbin Redman, Forest Planner, Caribou-Targhee National Forest, 1405 Hollipark Drive, Idaho Falls, Idaho 83401. Electronic comments can be submitted in rich text format (.rtf), or Word (.doc) to comments-intermtn-caribou-targhee@fs.fed.us.

For further information, mail correspondence to Robbin Redman, Forest Planner, Caribou-Targhee National Forest, 1405 Hollipark Drive, Idaho Falls, Idaho 83401 or call (208) 557-5821.

FOR FURTHER INFORMATION CONTACT: Robbin Redman, Forest Planner, Caribou-Targhee National Forest, USDA, (see address above).

SUPPLEMENTARY INFORMATION: The Forest Service, working with the public, developed the Big Bend Ridge Vegetation Management Project and Timber Sale over numerous years beginning in 1998. The process included publishing a Notice of Intent (NOI), seeking comments (scoping) on the proposed project and also seeking comments on the Draft EIS that included various alternatives for the project. On December 12, 2003 a Record of Decision selecting Alternative C was signed by the Forest Supervisor. This decision was appealed and upheld by the Intermountain Regional Forester.

After the ROD was upheld on appeal, a Complaint was filed in Idaho District Court. In the Complaint the Plaintiffs sought to enjoin the Big Bend Vegetation Management Project and Timber Sale project. The Court did not enjoin the Big Bend Vegetation Management Project and Timber Sale in its November 2004 ruling stating the logging was not imminent. The Court did enjoin the Big Bend Ridge Vegetation Project and Timber Sale on September 28, 2005 in its Memorandum Decision and Order when it determined the logging was imminent.

To address the Court's decision on the Big Bend Ridge Vegetation Project and Timber Sale, the Forest has completed a draft vegetation assessment of old growth and aspen for the Targhee National Forest. This preliminary information revealed that more clarification and guidance in the Targhee Revised Forest Plan (TRFP) is needed to assess, monitor, and manage old growth and aspen forests, and the proposed Targhee amendment is a result of this assessment.

Purpose and Need for Action

New information and a court ruling on the Big Bend Ridge Vegetation Management Project has shown that more clarification and guidance to assess, monitor, and manage old growth forest is needed. The Forest has determined a need to supplement the Big Bend Ridge Vegetation Management Project and Timber Sale analysis and to consider updating the Targhee Revised Forest Plan (TRFP) with regard to managing old growth, and aspen forests. This draft assessment will be used in the Forest's review of the Big Bend Ridge Vegetation Management Project and Timber Sale and incorporated into the DSEIS and FSEIS for the project. In the SEIS process for the Big Bend Ridge Vegetation Management Project and Timber Sale, the Forest will consider amending the TRFP as needed to address clarification of old growth forest and aspen.

The purpose and need for the Big Bend Ridge Vegetation Management Project and Timber Sale is: (1) Need for ecosystems and their components to be resilient to disturbances to structure, composition and processes at appropriate landscape scales. (2) Need to improve overall representation of forested age classes across the landscape over the long-term. (3) Need to maintain and regenerate declining species (at risk). (4) Need to provide for a sustained yield of forest products.

Proposed Action

The Forest will supplement the analysis for the Big Bend Ridge Vegetation Management Project and Timber Sale with regard to old growth, and aspen. The Forest also proposes to amend the TRFP to make it consistent regarding old growth, and aspen.

The Forest proposes to develop Desired Future Conditions for old growth, and aspen that would be incorporated into the Targhee Revised Forest Plan. The Forest also proposes to remove the current guidance for old growth/late seral management found on page III-12-13 #6 of the Targhee Revised Forest Plan.

The Big Bend Ridge Vegetation Management Project includes the following: harvesting by thinning from below and also some limited sanitation improvement harvest, planting a limited amount of trees (approximately 200 acres), closing some non-system roads before and after harvest, relocating a specific road, some maintenance of roads used in the harvest activities, fencing some aspen units if needed, and some temporary road construction with rehabilitation after harvest.

Possible Alternatives

The Forest has developed the Proposed Action for the TRFP amendment as discussed above and the no-action alternative.

Responsible Official

The responsible official is: Lawrence Timchak, Forest Supervisor, Caribou-Targhee National Forest, 1405 Hollipark Drive, Idaho Falls, ID 83401.

Nature of Decision To Be Made

Given the purpose and need, the deciding officer will decide whether or not to make a new decision on the Big Bend Ridge Vegetation Management Project and Timber Sale and whether to amend the Targhee Revised Forest Plan.

Scoping Process

The Forest is now seeking comments on this proposal and will seek comments on the Draft Supplemental Environmental Impact Statement for the Big Bend Ridge Vegetation Project and Timber Sale and the proposed TRFP amendment when it becomes available.

Comment Requested

This notice of intent initiates the scoping process which guides the development of the supplemental environmental impact statement.

Early Notice of Importance of Public Participation in Subsequent Environmental Review

A draft supplemental environmental impact statement will be prepared for comment. The comment period on the draft supplemental environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so comments and objections are made available to the Forest Service at a time when it can meaningfully consider them and respond to them in the final environmental impact statement.

To assist the Forest Service in identifying and considering issues and concerns on the proposed action, comments on the draft supplemental environmental impact statement should be as specific as possible. It is also helpful if comments refer to specific pages or chapters of the draft statement. Comments may also address the adequacy of the draft supplemental environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 23, 2007.
Lawrence Timchak,
Forest Supervisor.

[FR Doc. E7-10358 Filed 5-29-07; 8:45 am]

BILLING CODE 3410-11-P